DEPARTMENT OF COMMERCE

Census Bureau

Proposed Information Collection; Comment Request; Quarterly Survey of State and Local Tax Revenues

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before January 27, 2008.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument(s) and instructions should be directed to Christopher Pece, Chief, Public Finance Analysis Branch-B, Governments Division, U.S. Census Bureau, 4600 Silver Hill Road, Washington, DC 20233 (301-763-7330).

SUPPLEMENTARY INFORMATION:

I. Abstract

The Census Bureau plans to request an extension of the Quarterly Survey of State and Local Tax Revenue. The Census Bureau needs state and local tax data to publish benchmark statistics on public sector taxes, to provide data to the Bureau of Economic Analysis for GDP calculations and other economic indicators, and to provide data for economic research and comparative studies of governmental finances. Data are collected on a quarterly basis from state and local government tax collecting agencies.

Tax collection data are used to measure economic activity for the Nation as a whole, as well as for comparison among the various states. These data also are useful in comparing the mix of taxes employed by individual states, and in determining the revenue raising capacity of different types of taxes.

The survey collects data using three forms:

The Quarterly Survey of Property Tax Collections (Form F-71) is sent to 5,379 local government tax collecting agencies in 592 county areas. While some counties are served by a single county-level tax collection agency, others have county, city, township, and even school district collectors. Each agency is asked to report the total property tax collections during the past quarter. In addition to the current sample, Census is implementing a new sample which will increase the overall collection size to 6,946 local government tax collecting agencies in 609 county areas (with 4,002 local governments overlapping on both samples). This sample revision will ensure that this portion of the survey meets OMB's statistical standards. We will continue to collect the concurrent samples for four quarters at which time a bridge study will be conducted and the old sample will be discontinued.

The Quarterly Survey of State Tax Collections (Form F-72) is sent to a state-level revenue, finance, or budget agency in each state to report tax collection data for the preceding 3-month period.

The Quarterly Survey of Selected Local Taxes (Form F-73) is sent to 111 local tax collection agencies known to have substantial collections of local general sales and/or local individual income taxes.

II. Method of Collection

The F-71 survey is conducted by mail canvass from the Census Bureau's National Processing Center (NPC). Responses are either screened manually and then entered in the system at the NPC or entered directly by respondents via the Internet.

The F-72 and F-73 forms are sent to respondents by email or facsimile (as requested by respondent). Respondents submit the forms by mail, email, facsimile or Internet. (Email and facsimile are accepted but not encouraged.)

In those instances when we are not able to obtain a response a follow-up is conducted.

III. Data

OMB Control Number: 0607-0112.

Form Number: F-71, F-72, and F-73.

Type of Review: Regular submission.

Affected Public: State and local governments.

Estimated Number of Respondents: 7,108.

Estimated Time per Response: 25 minutes.

Estimated Total Annual Burden Hours: 7,159.

Estimated Total Annual Cost: $162,151.

Respondent's Obligation: Voluntary.

Legal Authority: Title 13 U.S.C. Section 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: November 21, 2008.
Gwellnar Banks,
Management Analyst, Office of the Chief Information Officer.

[FR Doc. E8-28216 Filed 11-26-08; 8:45 am]

BILLING CODE 3510-07-P